SMALL BUSINESS ADMINISTRATION

13 CFR Ch. I

Semiannual Regulatory Agenda

AGENCY: U.S. Small Business Administration (SBA).

ACTION: Semiannual regulatory agenda.

SUMMARY: This semiannual Regulatory Agenda (Agenda) is a summary of current and projected regulatory and deregulatory actions and completed actions of the Small Business Administration (SBA). This summary information is intended to enable the public to be more aware of, and effectively participate in, SBA's regulatory and deregulatory activities. Accordingly, SBA invites the public to submit comments on any aspect of this Agenda.

FOR FURTHER INFORMATION CONTACT:

General

Please direct general comments or inquiries to K. Bundy, U.S. Small Business Administration, 409 Third Street SW, Washington, DC 20416, (202) 205-6585, kabundy@sba.gov.

Specific

Please direct specific comments and inquiries on individual regulatory activities identified in this Agenda to the individual listed in the summary of the regulation as the point of contact for that regulation.

SUPPLEMENTARY INFORMATION: The Regulatory Flexibility Act (RFA) requires SBA to publish in the Federal Register a semiannual regulatory flexibility agenda describing those Agency rules that are likely to have a significant economic impact on a substantial number of small entities (5 U.S.C. 602). The summary information published in the Federal Register is limited to those rules. Additional information regarding all of the rulemakings SBA expects to consider in the next 12 months is included in the Federal Government's unified Regulatory Agenda, which will be available online at www.reginfo.gov in a format that offers users enhanced ability to obtain information about SBA's rules.

SBA is fully committed to implementing the Administration's regulatory reform policies, as established by Executive Order 13771, Reducing Regulation and Controlling Regulatory Costs (January 30, 2017) and Executive Order 13777, Enforcing the Regulatory Reform Agenda (February 24, 2017). In order to fully implement the goal of these executive orders, SBA seeks feedback from the public in identifying any SBA regulations affected parties believe impose unnecessary burdens or costs that exceed their benefits; eliminate jobs or inhibit job creation; or are ineffective or outdated.

Tami Perriello,
Acting Administrator.

Small Business Administration—Proposed Rule Stage
Sequence No. | Title | Regulation Identifier No.
342 | Small Business Size Standards; Alternative Size Standard for 7(a), 504, and Disaster Loan Programs | 3245-AG16
343 | Small Business Size Standards: Agriculture, Forestry, Fishing and Hunting; Mining, Quarrying, and Oil and Gas Extraction; Utilities; Construction | 3245-AG89
344 | Small Business Size Standards: Transportation and Warehousing; Information; Finance and Insurance; Real Estate and Rental and Leasing | 3245-AG90
345 | Small Business Size Standards: Professional, Scientific and Technical Services; Management of Companies and Enterprises; Administrative and Support and Waste Management and Remediation Services | 3245-AG91
346 | Small Business Size Standards: Manufacturing and Industries With Employee Based Size Standards in Other Sectors Except Wholesale Trade and Retail Trade | 3245-AH09
347 | Small Business Size Standards: Wholesale Trade and Retail Trade | 3245-AH10
348 | National Defense Authorization Act of 2020, Credit for Lower Tier Subcontracting and Other Amendments (Reg Plan Seq No. 120) | 3245-AH28
References in boldface appear in The Regulatory Plan in part II of this issue of the Federal Register.

Small Business Administration—Final Rule Stage
Sequence No. | Title | Regulation Identifier No.
349 | Small Business Size Standards: Educational Services; Health Care and Social Assistance; Arts, Entertainment and Recreation; Accommodation and Food Services; Other Services | 3245-AG88
350 | SBA Supervised Lenders Application Process | 3245-AH04
351 | Small Business Size Standards: Adjustment of Monetary Based Size Standards for Inflation | 3245-AH17

Small Business Administration—Long-Term Actions
Sequence No. | Title | Regulation Identifier No.
352 | Small Business Development Center Program Revisions | 3245-AE05
353 | Small Business Timber Set-Aside Program | 3245-AG69
354 | Small Business Size Standards: Calculation of Average Annual Receipts in Business Loan, Disaster Loan, and Small Business Investment Company Programs | 3245-AH26

Small Business Administration—Completed Actions
Sequence No. | Title | Regulation Identifier No.
355 | 8(a) Business Development (Completion of a Section 610 Review) | 3245-AH19
356 | Government Contracting Programs (Completion of a Section 610 Review) | 3245-AH20
357 | HUBZone Program (Completion of a Section 610 Review) | 3245-AH21

SMALL BUSINESS ADMINISTRATION (SBA)

Proposed Rule Stage

342. Small Business Size Standards; Alternative Size Standard for 7(A), 504, and Disaster Loan Programs

E.O. 13771 Designation: Other.

Legal Authority: Pub. L. 111-240, sec. 1116

Abstract: SBA will propose amendments its size eligibility criteria for Business Loans, certified development company (CDC) loans under title V of the Small Business Investment Act (504) and economic injury disaster loans (EIDL). For the SBA 7(a) Business Loan Program and the 504 program, the amendments will provide an alternative size standard for loan applicants that do not meet the small business size standards for their industries. The Small Business Jobs Act of 2010 (Jobs Act) established alternative size standards that apply to both of these programs until SBA's Administrator establishes other alternative size standards. For the disaster loan program, the amendments will provide an alternative size standard for loan applicants that do not meet the Small Business Size Standard for their industries. SBA loan program alternative size standards do not affect other Federal Government programs, including Federal procurement.

Timetable:

Action | Date | FR Cite
ANPRM | 03/22/18 | 83 FR 12506
ANPRM Comment Period End | 05/21/18 |
NPRM | 05/00/21 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov

RIN: 3245-AG16

343. Small Business Size Standards: Agriculture, Forestry, Fishing and Hunting; Mining, Quarrying, and Oil and Gas Extraction; Utilities; Construction

E.O. 13771 Designation: Other.

Legal Authority: 15 U.S.C. 632(a)

Abstract: The Small Business Jobs Act of 2010 (Jobs Act) requires SBA to conduct every five years a detailed review of all size standards and to make appropriate adjustments to reflect market conditions. As part of the second five-year review of size standards under the Jobs Act, in this proposed rule, SBA will evaluate each industry that has a receipts-based standard in North American Industry Classification System (NAICS) Sector 11 (Agriculture, Forestry, Fishing and Hunting), Sector 21 (Mining, Quarrying, and Oil and Gas Extraction), Sector 22 (Utilities), and Sector 23 (Construction), and make necessary adjustments to size standards in these sectors. This is one of a series of proposed rules that will examine groups of NAICS sectors. SBA will apply its Size Standards Methodology to this proposed rule.

Timetable:

Action | Date | FR Cite
NPRM | 10/02/20 | 85 FR 62239
NPRM Comment Period End | 12/01/20 |
Final Rule | 09/00/21 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG89

344. Small Business Size Standards: Transportation and Warehousing; Information; Finance and Insurance; Real Estate and Rental and Leasing

E.O. 13771 Designation: Other.

Legal Authority: 15 U.S.C. 632(a)

Abstract: The Small Business Jobs Act of 2010 (Jobs Act) requires SBA to conduct every five years a detailed review of all size standards and to make appropriate adjustments to reflect market conditions. As part of the second five-year review of size standards under the Jobs Act, in this proposed rule, SBA will evaluate each industry that has a receipts-based standard in North American Industry Classification System (NAICS) Sector 48-49 (Transportation and Warehousing), Sector 51 (Information), Sector 52 (Finance and Insurance), and Sector 53 (Real Estate and Rental and Leasing) and make necessary adjustments to size standards in these sectors. This is one of a series of proposed rules that will examine groups of NAICS sectors. SBA will apply its Size Standards Methodology to this proposed rule.

Timetable:

Action | Date | FR Cite
NPRM | 10/02/20 | 85 FR 62372
NPRM Comment Period End | 12/01/20 |
Final Rule | 09/00/21 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG90

345. Small Business Size Standards: Professional, Scientific and Technical Services; Management of Companies and Enterprises; Administrative and Support and Waste Management and Remediation Services

E.O. 13771 Designation: Other.

Legal Authority: 15 U.S.C. 632(a)

Abstract: The Small Business Jobs Act of 2010 (Jobs Act) requires SBA to conduct every five years a detailed review of all size standards and to make appropriate adjustments to reflect market conditions. As part of the second five-year review of size standards under the Jobs Act, in this proposed rule, SBA will evaluate each industry that has a receipts-based standard in North American Industry Classification System (NAICS) Sector 54 (Professional, Scientific and Technical Services), Sector 55 (Management of Companies and Enterprises), and Sector 56 (Administrative and Support, Waste Management and Remediation Services) and make necessary adjustments to size standards in these sectors. This is one of a series of proposed rules that will examine groups of NAICS sectors. SBA will apply its Size Standards Methodology to this proposed rule.

Timetable:

Action | Date | FR Cite
NPRM | 11/13/20 | 85 FR 72584
NPRM Comment Period End | 01/12/21 |
Final Rule | 07/00/21 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG91

346. Small Business Size Standards: Manufacturing and Industries With Employee Based Size Standards in Other Sectors Except Wholesale Trade and Retail Trade

E.O. 13771 Designation: Other.

Legal Authority: 15 U.S.C. 632(a)

Abstract: The Small Business Jobs Act of 2010 (Jobs Act) requires SBA to conduct every five years a detailed review of all size standards and to make appropriate adjustments to reflect market conditions. As part of the second 5-year review of size standards under the Jobs Act, in this proposed rule, SBA will evaluate all industries in North American Industry Classification System (NAICS) Sector 31-33 (Manufacturing) and industries with employee based size standards in other sectors except Wholesale Trade and Retail Trade and make necessary adjustments to their size standards. This is one of a series of proposed rules that will examine groups of NAICS sectors. SBA will apply its revised Size Standards Methodology, which is available on its website at http://www.sba.gov/size, to this proposed rule.

Timetable:

Action | Date | FR Cite
NPRM | 05/00/21 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AH09

347. Small Business Size Standards: Wholesale Trade and Retail Trade

E.O. 13771 Designation: Other.

Legal Authority: 15 U.S.C. 632(a)

Abstract: The Small Business Jobs Act of 2010 (Jobs Act) requires SBA to conduct every five years a detailed review of all size standards and to make appropriate adjustments to reflect market conditions. As part of the second 5-year review of size standards under the Jobs Act, in this proposed rule, SBA will evaluate all industries in North American Industry Classification System (NAICS) Sector 42 (Wholesale Trade) and Sector 44-45 (Retail Trade) and make necessary adjustments to their size standards. This is one of a series of proposed rules that will examine groups of NAICS sectors. SBA will apply its revised Size Standards Methodology, which is available on its website at http://www.sba.gov/size, to this proposed rule.

Timetable:

Action | Date | FR Cite
NPRM | 05/00/21 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AH10

348. National Defense Authorization Act of 2020, Credit for Lower Tier Subcontracting and Other Amendments

Regulatory Plan: This entry is Seq. No. 120 in part II of this issue of the Federal Register.

RIN: 3245-AH28

SMALL BUSINESS ADMINISTRATION (SBA)

Final Rule Stage

349. Small Business Size Standards: Educational Services; Health Care and Social Assistance; Arts, Entertainment and Recreation; Accommodation and Food Services; Other Services

E.O. 13771 Designation: Other.

Legal Authority: 15 U.S.C. 632(a)

Abstract: The Small Business Jobs Act of 2010 (Jobs Act) requires SBA to conduct every five years a detailed review of all size standards and to make appropriate adjustments to reflect market conditions. As part of the second five-year review of size standards under the Jobs Act, in this proposed rule, SBA will evaluate size standards for all industries in North American Industry Classification System (NAICS) Sector 61 (Educational Services), Sector 62 (Health Care and Social Assistance), Sector 71 (Arts, Entertainment and Recreation), Sector 72 (Accommodation and Food Services), and Sector 81 (Other Services) and make necessary adjustments to size standards in these sectors. This is one of a series of proposed rules that will examine groups of NAICS sectors. SBA will apply its Size Standards Methodology to this proposed rule.

Timetable:

Action | Date | FR Cite
NPRM | 11/27/20 | 85 FR 76390
NPRM Comment Period End | 01/26/21
Final Rule | 10/00/21

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG88

350. SBA Supervised Lenders Application Process

E.O. 13771 Designation: Other.

Legal Authority: 15 U.S.C. 632(r)

Abstract: SBA Supervised Lenders include Small Business Lending Companies (SBLCs) and Non-Federally Regulated Lenders (NFRLs). This rule aims to enhance the process for organizations seeking to participate as SBLCs or NFRLs in the 7(a) Loan Program and to clarify the factors SBA will consider in evaluating SBA Supervised Lender applications. An SBLC is a non-depository lending institution that is authorized by SBA to make loans pursuant to section 7(a) of the Small Business Act and to Intermediaries in SBA's Microloan Program. An SBLC is regulated, supervised, and examined solely by SBA. SBA imposed a moratorium on licensing new SBLCs in 1982. There are currently 14 SBLCs with full authority to make 7(a) loans up to the maximum amount of $5 million and other SBLCs with more limited authority to make 7(a) loans. SBLCs are subject to SBA regulations regarding their formation, capitalization, and enforcement actions. To operate as an SBLC with full authority, an organization must acquire the existing SBLC lending authority held by an SBLC. Non-Federally Regulated Lenders (NFRLs) are also authorized by the SBA to make loans under section 7(a). Unlike SBLCs, NFRLs are subject to regulation by a state; however, SBA is the sole federal regulator for these entities. This rule will also cover the application process for these NFRLs.

Timetable:

Action | Date | FR Cite
NPRM | 01/13/20 | 85 FR 1783
NPRM Comment Period End | 03/13/20
Final Rule | 05/00/21

Regulatory Flexibility Analysis Required: Yes.

Agency Contact: Susan Streich, Director of Credit Risk Management, Small Business Administration, 409 Third Street SW, Washington, DC 20416, Phone: 202 205-6641, Email: susan.streich@sba.gov.

RIN: 3245-AH04

351. Small Business Size Standards: Adjustment of Monetary Based Size Standards for Inflation

E.O. 13771 Designation: Deregulatory.

Legal Authority: 15 U.S.C. 632(a)

Abstract: In this final rule, the U.S. Small Business Administration (SBA or Agency) adjusts all monetary based industry size standards (i.e., receipts, assets, net worth, and net income) for inflation since the last adjustment in 2014. In accordance with its regulations in 13 CFR 121.102(c), SBA is required to review the effects of inflation on its monetary standards at least once every five years and adjust them, if necessary. In addition, the Small Business Jobs Act of 2010 (Jobs Act) also requires SBA to conduct every five years a detailed review of all size standards and to make appropriate adjustments to reflect market conditions. This action will restore the small business eligibility of businesses that have lost that status due to inflation.

Timetable:

Action | Date | FR Cite
Interim Final Rule | 07/18/19 | 84 FR 34261
Interim Final Rule Effective | 08/19/19
Interim Final Rule Comment Period End | 09/16/19
Final Action | 05/00/21

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AH17

SMALL BUSINESS ADMINISTRATION (SBA)

Long-Term Actions

352. Small Business Development Center Program Revisions

E.O. 13771 Designation: Deregulatory.

Legal Authority: 15 U.S.C. 634(b)(6); 15 U.S.C. 648

Abstract: This rule proposes to update the Small Business Development Center (SBDC) program regulations by proposing to amend: (1) Procedures for approving applications when a new Lead SBDC center is selected; (2) procedures and requirements regarding findings and disputes resulting from financial exams, programmatic reviews, accreditation reviews, and other SBA oversight activities; (3) requirements for new or renewal applications for SBDC grants, including electronic submission through the approved electronic Government submission facility; (4) procedures regarding the determination to affect suspension, termination or non-renewal of an SBDC's cooperative agreement; and (5) provisions regarding the collection and use of the individual SBDC client data.

Timetable:

Action | Date | FR Cite
ANPRM | 04/02/15 | 80 FR 17708
ANPRM Comment Period End | 06/01/15
NPRM | 11/00/21

Regulatory Flexibility Analysis Required: Yes.

Agency Contact: Rachel Newman-Karton, Phone: 202 619-1816, Email: rachel.newman-karton@sba.gov.

RIN: 3245-AE05

353. Small Business Timber Set-Aside Program

E.O. 13771 Designation: Regulatory.

Legal Authority: 15 U.S.C. 631; 15 U.S.C. 644(a)

Abstract: The U.S. Small Business Administration (SBA or Agency) is amending its Small Business Timber Set-Aside Program (the Program) regulations. The Small Business Timber Set-Aside Program is rooted in the Small Business Act, which tasked SBA with ensuring that small businesses receive a fair proportion of the total sales of government property. Accordingly, the Program requires Timber sales to be set aside for small business when small business participation falls below a certain amount. SBA considered comments received during the Advance Notice of Proposed Rulemaking and Notice of Proposed Rulemaking processes, including on issues such as, but not limited to, whether the saw timber volume purchased through stewardship timber contracts should be included in calculations, and whether the appraisal point used in set-aside sales should be the nearest small business mill. In addition, SBA is considering data from the timber industry to help evaluate the current program and economic impact of potential changes.

Timetable:

Action | Date | FR Cite
ANPRM | 03/25/15 | 80 FR 15697
ANPRM Comment Period End | 05/26/15
NPRM | 09/27/16 | 81 FR 66199
NPRM Comment Period End | 11/28/16
Final Rule | 11/00/21

Regulatory Flexibility Analysis Required: Yes.

Agency Contact: David W. Loines, Phone: 202 431-0472, Email: david.loines@sba.gov.

RIN: 3245-AG69

354. Small Business Size Standards: Calculation of Average Annual Receipts in Business Loan, Disaster Loan, and Small Business Investment Company Programs

E.O. 13771 Designation: Other.

Legal Authority: 15 U.S.C. 632(a)(2); Pub. L. 115-324

Abstract: The Small Business Runway Extension Act, Public Law 115-324, amended the Small Business Act to provide for calculation of average annual receipts using a 5-year average, rather than the prior 3-year average, in defined circumstances. For firms subject to SBA's receipt-based size standards (generally, service-industry, construction, and agricultural firms), a lengthened averaging period permits firms with increasing revenues to stay eligible for small business benefits for longer. In RIN 3245-AH16, SBA implemented the Small Business Runway Extension Act in programs other than SBA's loan programs—including SBA's procurement programs—and SBA issued its final rule in that first rulemaking on December 5, 2019 (84 FR 66561). This second rulemaking would consider how to address the Small Business Runway Extension Act in SBA's business loan, disaster loan, and SBIC programs.

Timetable:

Action | Date | FR Cite
NPRM | 11/00/21

Regulatory Flexibility Analysis Required: Yes.

Agency Contact: Khem Raj Sharma, Phone: 202 205-7189, Fax: 202 205-6390, Email: khem.sharma@sba.gov.

RIN: 3245-AH26

SMALL BUSINESS ADMINISTRATION (SBA)

Completed Actions

355. 8(A) Business Development (Completion of a Section 610 Review)

E.O. 13771 Designation: Not subject to, not significant.

Legal Authority: 15 U.S.C. 637

Abstract:Under part 124, 8(a) Business Development/Small Disadvantaged Business Status Determinations, SBA has promulgated several rules that the Agency certified would have a significant economic impact on a substantial number of small entities within the meaning of the Regulatory Flexibility Act. These rules established eligibility requirements for participation in the 8(a) programs and application, certification, and protest procedures, among other things. SBA reviewed these rules under section 610 of the Regulatory Flexibility Act to determine if the rules should be continued without change, or should be amended or rescinded, to minimize adverse economic impacts on small entities. In the course of the review, SBA considered the following factors: (1) The continued need for the rule; (2) the comments received concerning the rule; (3) the complexity of the rule; (4) the extent to which the rule overlaps, duplicates, or conflicts with Federal, State, or local government rules; and (5) the degree to which technology, economic conditions, or other factors have changed in the area affected by the rule. SBA solicited comments and conducted an analysis of these factors. After consideration of this information, SBA has determined that the rules should be continued without change.

Timetable:

Action | Date | FR Cite
Begin Review | 04/28/20 | 85 FR 23487
Comment Period End | 07/27/20
End Review | 10/01/20

Regulatory Flexibility Analysis Required: No.

Agency Contact: Brenda J. Fernandez, Analyst, Office of Policy, Planning and Liaison, Small Business Administration, 409 Third Street SW, Washington, DC 20416, Phone: 202 205-7337, Email: brenda.fernandez@sba.gov.

RIN: 3245-AH19

356. Government Contracting Programs (Completion of a Section 610 Review)

E.O. 13771 Designation: Not subject to, not significant.

Legal Authority: Regulatory Flexibility Act, 5 U.S.C. 610; 15 U.S.C. 634; 15 U.S.C. 637; 15 U.S.C. 644

Abstract:Under part 125, Government Contracting Programs, SBA has promulgated several rules that the Agency certified would have a significant economic impact on a substantial number of small entities within the meaning of the Regulatory Flexibility Act. These rules established requirements for participation in SBA's government contracting programs, contracting provisions, and protest procedures, among other things. SBA reviewed these rules under section 610 of the Regulatory Flexibility Act to determine if the rules should be continued without change, or should be amended or rescinded, to minimize adverse economic impacts on small entities. In the course of the review, SBA considered the following factors: (1) The continued need for the rule; (2) the comments received concerning the rule; (3) the complexity of the rule; (4) the extent to which the rule overlaps, duplicates, or conflicts with Federal, State, or local government rules; and (5) the degree to which technology, economic conditions, or other factors have changed in the area affected by the rule. SBA solicited comments and conducted an analysis of these factors. After consideration of this information, SBA has determined that the rules should be continued without change.

Timetable:

Action | Date | FR Cite
Begin Review | 04/28/20 | 85 FR 23487
Comment Period End | 07/27/20
End Review | 10/01/20

Regulatory Flexibility Analysis Required: No.

Agency Contact: Brenda J. Fernandez, Analyst, Office of Policy, Planning and Liaison, Small Business Administration, 409 Third Street SW, Washington, DC 20416, Phone: 202 205-7337, Email: brenda.fernandez@sba.gov.

RIN: 3245-AH20

357. Hubzone Program (Completion of a Section 610 Review)

E.O. 13771 Designation: Not subject to, not significant

Legal Authority: Regulatory Flexibility Act, 5 U.S.C. 610; 15 U.S.C. 632; 15 U.S.C. 657a

Abstract: Under part 126, HUBZone Program, SBA has promulgated several rules that the Agency certified would have a significant economic impact on a substantial number of small entities within the meaning of the Regulatory Flexibility Act. These rules established eligibility requirements for qualified HUBZone small business concerns, procedures for certification program examinations and protests, and provisions relating to HUBZone contracts, among other things. SBA reviewed these rules under section 610 of the Regulatory Flexibility Act to determine if the rules should be amended or rescinded to minimize adverse economic impacts on small entities. In the course of the review, SBA considered the following factors: (1) The continued need for the rule; (2) the comments received concerning the rule; (3) the complexity of the rule; (4) the extent to which the rule overlaps, duplicates, or conflicts with Federal, State, or local government rules; and (5) the degree to which technology, economic conditions, or other factors have changed in the area affected by the rule. SBA solicited comments and conducted an analysis of these factors. After consideration of this information, SBA has determined that the rules should be continued without change.

Timetable:

Action | Date | FR Cite
Begin Review | 04/28/20 | 85 FR 23487
Comment Period End | 07/27/20
End Review | 10/01/20

Regulatory Flexibility Analysis Required: No.

Agency Contact: Brenda J. Fernandez, Analyst, Office of Policy, Planning and Liaison, Small Business Administration, 409 Third Street SW, Washington, DC 20416, Phone: 202 205-7337, Email: brenda.fernandez@sba.gov.

RIN: 3245-AH21

[FR Doc. 2021-04708 Filed 3-30-21; 8:45 am]

BILLING CODE 8026-03-P